DEPARTMENT OF ENERGY

Federal Energy Regulatory Commission

Notice Rejecting Request for Rehearing

| Project Nos.
Northland Power Mississippi River LLC | 14072-001,
| 14073-002,
| 14075-002,
| 14076-002,
| 14077-002,
| 14078-002,
| 14080-002,
| 14081-002,
| 14082-002,
| 14089-002,
| 14090-002,
| 14091-002,
| 14092-002,
| 14093-002,
| 14094-002,
| 14095-002,
| 14096-002,
| 14097-002,
| 14098-002,
| 14099-002
FFP Project 19 LLC | 12842-005
FFP Project 23 LLC | 12843-005
FFP Project 24 LLC | 12844-005
FFP Project 14 LLC | 12845-005
FFP Project 6 LLC | 12848-004
FFP Project 7 LLC | 12851-004
FFP Project 12 LLC | 12853-005
FFP Project 13 LLC | 12854-005
FFP Project 3 LLC | 12856-005
FFP Project 18 LLC | 12857-004
FFP Project 16 LLC | 12858-005
FFP Project 28 LLC | 12861-005
FFP Project 20 LLC | 12869-005
FFP Project 32 LLC | 12921-004
FFP Project 33 LLC | 12924-004
FFP Project 39 LLC | 12925-004
FFP Project 30 LLC | 12927-004

On June 1, 2012, the Commission denied Northland Power Mississippi River LLC's (Northland) request for rehearing of Commission staff orders issuing successive preliminary permits to wholly-owned subsidiaries of Free Flow Power Corporation (Free Flow) to study hydrokinetic projects at sites along the Mississippi River.¹ On July 2, 2012, Northland filed a request for rehearing of the Commission's order denying rehearing.

¹ Northland Power Mississippi River LLC, 139 FERC ¶ 61,177 (2012).

Rehearing of an order on rehearing lies when the order on rehearing modifies the result reached in the original order in a manner that gives rise to a wholly new objection.² The Commission's June 1 rehearing order does not modify the result of the orders issuing successive preliminary permits to Free Flow and denying Northland's competing applications. Therefore, Northland's request for rehearing of the June 1 order is rejected.³

² See Duke Power, 114 FERC ¶ 61,148 (2006); Gustavus Electric Co., 111 FERC ¶ 61,424 (2005); Symbiotic, L.L.C., 99 FERC ¶ 61,064 (2002); and PacifiCorp, 99 FERC ¶ 61,015 (2002). See also Southern Natural Gas Co. v. FERC, 877 F.2d 1066, 1072-73 (D.C. Cir. 1999) (citing Tennessee Gas Pipeline v. FERC, 871 F.2d 1099-100 (D.C. Cir. 1988)).

³ Northland also seeks to raise new arguments regarding Free Flow's diligence under its prior permits and the Commission's first-in-time tiebreaker rule. Because these arguments could and should have been raised earlier, they are untimely and may not be raised now. Under section 313(a) of the Federal Power Act, 16 U.S.C. 825l(a) (2006), a party may apply for rehearing within thirty days after the issuance of the order from which they are seeking rehearing. However, the thirty-day limit is a jurisdictional one which the Commission has no authority to waive, E.g., Kings River Conservation Dist., 32 FERC ¶ 61,021, at 61,079 (1985).

This notice constitutes final agency action. Requests for rehearing by the Commission of this rejection notice must be filed within 30 days of the date of issuance of this notice pursuant to 18 CFR 385.713 (2012).

Dated: August 1, 2012.
Kimberly D. Bose,
Secretary.

[FR Doc. 2012-19271 Filed 8-6-12; 8:45 am]

BILLING CODE 6717-01-P